DEPARTMENT OF AGRICULTURE

Animal and Plant Health Inspection Service

7 CFR Part 301

[Docket No. 00-088-1]

Karnal Bunt; Regulated Areas

AGENCY: Animal and Plant Health Inspection Service, USDA.

ACTION: Proposed rule.

SUMMARY: We are proposing to amend the Karnal bunt regulations by adding new areas to the list of areas regulated because of Karnal bunt, a fungal disease of wheat, due to the detection of bunted kernels in grain grown in these areas. We are also proposing to remove certain fields from regulation because wheat is no longer grown in those fields or because fields previously classified as regulated areas have produced grain that has tested negative for Karnal bunt. These actions would help prevent the spread of Karnal bunt into noninfested areas of the United States and remove from regulation certain fields where restrictions no longer appear to be warranted.

DATES: We invite you to comment on this docket. We will consider all comments that we receive by June 19, 2001.

ADDRESSES: Please send four copies of your comment (an original and three copies) to: Docket No. 00-088-1, Regulatory Analysis and Development, PPD, APHIS, Suite 3C03, 4700 River Road, Unit 118, Riverdale, MD 20737-1238.

Please state that your comment refers to Docket No. 00-088-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Vedpal S. Malik, National Karnal Bunt Coordinator, PPQ, APHIS, USDA, 4700 River Road Unit 134, Riverdale, MD 20737-1231; (301) 734-6774.

SUPPLEMENTARY INFORMATION:

Background

Karnal bunt is a fungal disease of wheat (Triticum aestivum), durum wheat (Triticum durum), and triticale (Triticum aestivum X Secale cereale), a hybrid of wheat and rye. Karnal bunt is caused by the fungus Tilletia indica (Mitra) Mundkur and is spread by spores, primarily through the planting of infected seed. Some countries in the international wheat market regulate Karnal bunt as a fungal disease requiring quarantine; therefore, without measures taken by the Animal and Plant Health Inspection Service (APHIS), United States Department of Agriculture (USDA), to prevent its spread, the presence of Karnal bunt in the United States could have significant consequence with regard to the export of wheat to international markets.

The regulations regarding Karnal bunt are set forth in 7 CFR 301.89-1 through 301.89-16 (referred to below as the regulations).

Regulated Areas

The regulations in § 301.89-3(e) provide that we will classify a field or area as a regulated area when it is:

• A field planted with seed from a lot found to contain a bunted wheat kernel;

• A distinct definable area that contains at least one field that was found during a survey to contain a bunted wheat kernel. The distinct definable area may include an area where Karnal bunt is not known to exist but where intensive surveys are required because of the area's proximity to a field found during survey to contain a bunted kernel; or

• A distinct definable area that contains at least one field that was found during survey to contain spores consistent with Karnal bunt and has been determined to be associated with grain at a handling facility containing a bunted wheat kernel. The distinct definable area may include an area where Karnal bunt is not known to exist but where intensive surveys are required because of that area's proximity to a field that has been associated with grain at a handling facility containing a bunted kernel.

The boundaries of distinct definable areas are determined using the criteria in paragraphs (b) through (d) of § 301.89-3, which provide for the regulation of less than an entire State, the inclusion of noninfected acreage in a regulated area, and the temporary designation of nonregulated areas as regulated areas. Paragraph (c) of § 301.89-3 states that the Administrator may include noninfected acreage within a regulated area due to its proximity to an infestation or inseparability from the infected locality for regulatory purposes, as determined by:

• Projections of the spread of Karnal bunt along the periphery of the infestation;

• The availability of natural habitats and host materials within the noninfected acreage that are suitable for establishment and survival of Karnal bunt; and

• The necessity of including noninfected acreage within the regulated area in order to establish readily identifiable boundaries.

The regulations at § 301.89-3(f) set the boundaries for regulated areas in Arizona, California, New Mexico, and Texas. Certain regulated areas in Arizona, California, and Texas include noninfected acreage that functions as a buffer zone to guard against the spread of Karnal bunt.

When we include noninfected acreage in a regulated area for one or more of the reasons previously listed, the noninfected acreage, along with the rest of the acreage in the regulated area, is intensively surveyed. Negative results from surveys of the noninfected acreage provide assurance that all infected acreage is within the regulated area. In effect, the noninfected acreage serves as a buffer zone between fields or areas associated with a bunted kernel and areas outside of the regulated area.

In this document, we are proposing to extend the size of the regulated area in Arizona by about 23,100 acres. This new area contains 14 fields in La Paz and Maricopa Counties that were discovered during the year 2000 harvesting season survey to have produced wheat that contained bunted kernels. This new area would also include a 3 mile-wide buffer zone around each of the 14 fields. Based on 5 years of experience surveying noninfected acreage included in regulated areas, we have determined that a buffer zone of no more than 3 miles around a field or areas associated with a bunted kernel is sufficient. Extending the regulated area would help prevent the spread of Karnal bunt.

We are also proposing to remove certain areas from regulation. Specifically, we are proposing to remove one field in Maricopa County, AZ, from regulation because it is being used for the construction of houses, and it will no longer be used to grow wheat. Additionally, we propose to remove 9 fields in Yuma County, AZ, 5 fields in Dona Ana County, NM, 10 fields in Luna County, NM, and 1 field in Sierra County, NM, from regulation because grain harvested from those fields during the year 2000 harvesting season tested negative for Karnal bunt. These fields have been regulated because they were planted, in 1996, with seed that was suspected to be contaminated with Karnal bunt. This change would remove restrictions that no longer appear warranted on about 820 acres.

Miscellaneous Changes

We are also proposing to make nonsubstantive editorial changes to the format of the regulations. Specifically, we are proposing to add paragraph designations to the list of quarantined areas to make them easier to read.

Executive Order 12866 and Regulatory Flexibility Act

This proposed rule has been reviewed under Executive Order 12866. The rule has been determined to be not significant for the purposes of Executive Order 12866 and, therefore, has not been reviewed by the Office of Management and Budget.

Upon the initial detection of Karnal bunt in Arizona in March of 1996, a Federal quarantine and emergency actions were imposed to prevent the interstate spread of the disease to other wheat producing areas in the United States. The quarantine has remained in effect, although it has since been modified in terms of its physical boundaries and restrictions on the production and movement of regulated articles.

Effect on Areas Proposed for Deregulation

This proposed rule would remove from regulation 9 fields in Arizona and 16 fields in New Mexico, reducing the size of the regulated area in both States. The regulated agricultural acreage would decrease by about 290 acres in Arizona and 530 acres in New Mexico.

We estimate that one wheat producer in Arizona and six wheat producers in New Mexico would be affected by this aspect of the proposed rule. Under the regulations, wheat, durum wheat, and triticale may only be moved from regulated areas to nonregulated areas if it tests negative for bunted kernels. Additionally, commercial wheat seed may not be moved from regulated to nonregulated areas. Producers whose fields would be removed from regulation would benefit because they would be able to move wheat and other regulated articles from these fields without restriction.

These benefits, however, are likely to be minimal. Considering that the testing of grain for Karnal bunt is already a free service for all producers in regulated areas, the elimination of testing requirements would remove an inconvenience only, not a financial burden. Further, little or no commercial wheat seed is, or is expected to be, grown in the affected fields.

Similarly, this aspect of the proposal would not serve to significantly reduce the need for equipment cleaning by producers or by custom combine harvesters who routinely move their machines into and out of regulated areas to harvest wheat for multiple producers. In the past, there has been little need for such cleaning because crops harvested in the affected fields have not produced bunted kernels, and equipment must be cleaned only if it has been used to harvest host crops that test positive for Karnal bunt.

One field in Arizona would be removed from regulation because it is currently being used for the construction of houses. In this case, no wheat producers or custom harvesters would be affected because the field is not being used for agricultural purposes.

Effect on Areas Proposed for Regulation

This proposed rule would increase the size of the regulated area in Arizona by about 23,100 acres, which includes approximately 600 fields. We estimate that about 15 wheat producers and 6 custom combine harvesters would be affected by this aspect of the proposal. However, the effect on each is not likely to be significant. As previously stated, the required grain testing is performed free of charge for producers in regulated areas. Also, little or no commercial wheat seed is, or is expected to be, grown in the affected fields. Finally, mechanized harvesting equipment does not have to be cleaned and disinfected prior to movement from a regulated area unless it has been used to harvest crops that test positive for Karnal bunt.

Overall, if this proposed rule is adopted, the regulated agricultural acreage in Arizona would increase by about 22,810 acres to approximately 281,000 acres. In New Mexico, regulated agricultural acreage would decrease by approximately 530 acres to about 3,300 acres.

The Regulatory Flexibility Act requires that agencies consider the economic effects of their rules on small businesses, organizations, and governmental jurisdictions. In this case, entities that would be most affected by the proposed rule are wheat producers and custom combine harvesters. The size of these entities is unknown. It is reasonable to assume, however, that most are small in size according to the U.S. Small Business Administration's (SBA) criteria. This assumption is based on composite data for providers of the same and similar services. For example, in 1997, of the 6,135 wheat and other farms in Arizona, 89 percent had annual sales of less than $0.5 million, the SBA's threshold for a small wheat farm. Similarly, in 1997, there were 366 U.S. firms involved in mechanical harvesting and related activities, including combining of crops. Of these firms, 93 percent had less than $5.0 million in annual sales, which is the SBA's threshold for a small entity for businesses of that type.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we propose to amend 7 CFR part 301 as follows:

PART 301—DOMESTIC QUARANTINE NOTICES

1. The authority citation for part 301 would continue to read as follows:

Authority: Title IV, Pub. L. 106-224, 114 Stat. 438, 7 U.S.C. 7701-7772; 7 U.S.C. 166; 7 CFR 2.22, 2.80, and 371.3.

Section 301.75-15 also issued under Sec. 204, Title II, Pub. L. 106-113, 113 Stat. 1501A-293, and Sec. 203, Title II, Pub. L. 106-224, 114 Stat. 400.

2. In § 301.89-3, paragraph (f) would be revised to read as follows:

§ 301.89-3 Regulated areas.

* * * * *

(f) The following areas or fields are designated as regulated areas (maps of the regulated areas may be obtained by contacting the Animal and Plant Health Inspection Service, Plant Protection and Quarantine, 4700 River Road, Unit 134, Riverdale, MD 20737-1236):

Arizona

La Paz County. (1) Beginning at the southeast corner of sec. 33, T. 5 N., R. 21 W.; then west to the Colorado River; then north along the Colorado River to the west edge of sec. 26, T. 6 N., R. 22 W.; then north to the northwest corner of sec. 26, T. 6 N., R. 22 W.; then east to the northeast corner of sec. 27, T. 6 N., R. 21 W.; then south to the southeast corner of sec. 10, T. 5 N., R. 21 W.; then west to the southwest corner of sec. 10, T. 5 N, R. 21 W.; then south to the point of beginning.

(2) Beginning at the southeast corner of sec. 6, T. 7 N., R. 20 W.; then west to the southeast corner of sec. 35, T. 7 N., R. 21 W.; then south to the southeast corner of sec. 2, T. 6 N., R. 21 W; then west to the southeast corner of sec. 3, T. 6 N., R. 21 W.; then south to the southeast corner of sec. 15, T. 6 N., R. 21 W.; then west to the southwest corner of sec. 13, T. 6 N., R. 22 W., then north to the northwest corner of sec. 25, T. 7 N., R. 22 W.; then east to the southwest corner of sec. 19, T. 7 N., R. 21 W.; then north to the Colorado River; then northeast along the Colorado River to the north edge of sec. 32, T. 8 N., R. 21 W.; then east to the northeast corner of sec. 31, T. 8 N., R. 20 W.; then south to the point of beginning.

Maricopa County. (1) Beginning at the southeast corner of sec. 12, T. 6 S., R. 6 W.; then west to the southwest corner of sec. 7, T. 6 S., R. 6 W.; then north to the northwest corner of sec. 7, T. 6 S., R. 6 W.; then west to the southwest corner of sec. 2, T. 6 S., R. 7 W.; then north to the northwest corner of sec. 14, T. 5 S., R. 7 W.; then east to the northeast corner of sec. 18, T. 5 S., R. 6 W.; then south to the southeast corner of sec. 19, T. 5 S., R. 6 W.; then east to the northeast corner of sec. 25, T. 5 S., R. 6 W.; then south to the point of beginning.

(2) Beginning at the southeast corner of sec. 34, T. 1 N., R. 2 W.; then west to the northeast corner of sec. 5, T. 1 S., R. 2 W.; then south to the southeast corner of sec. 8, T. 1 S., R. 2 W.; then west to the southeast corner of sec. 11, T. 1 S., R. 4 W.; then south to the southeast corner of sec. 14, T. 1 S, R. 4 W.; then west to the southwest corner of sec. 14, T. 1 S., R. 5 W.; then north to the northwest corner of sec. 14, T. 1 N., R. 5 W.; then east to the northwest corner of sec. 17, T. 1 N., R. 2 W.; then north to the northwest corner of sec. 8, T. 1 N., R. 2 W.; then east to the northeast corner of sec. 10, T. 1 N., R. 2 W.; then south to the point of beginning.

(3) Beginning at the southeast corner of sec. 28, T. 1 S., R. 2 E.; then west to the southwest corner of sec. 30, T. 1 S., R. 2 E.; then north to the southwest corner of sec. 18, T. 1 S., R. 2 E.; then west to the southwest corner of sec. 14, T. 1 S., R. 1 E.; then north to the southwest corner of sec. 2, T. 1 S., R. 1 E.; then west to the southwest corner of sec. 4, T. 1 S., R. 1 E.; then north to the northwest corner of sec. 4, T. 1 S., R. 1 E.; then west to the southwest corner of sec. 36, T. 1 N., R. 2 W.; then north to the southwest corner of sec. 25, T. 2 N., R. 2 W.; then west to the southwest corner of sec. 27, T. 2 N., R. 2 W.; then north to the northwest corner of sec. 3, T. 3 N., R. 2 W.; then east to the northeast corner of sec. 1, T. 3 N., R. 1 W.; then south to the northwest corner of sec. 19, T. 3 N., R. 1 E.; then east to the northeast corner of sec. 23, T. 3 N., R. 1 E.; then south to the southeast corner of sec. 35, T. 3 N., R. 1 E.; then east to the northeast corner of sec. 1, T. 2 N., R. 1 E.; then south to the northwest corner of sec. 18, T. 1 N., R. 2 E.; then east to the northeast corner of sec. 13, T. 1 N., R. 2 E.; then south to the southeast corner of sec. 12, T. 1 S., R. 2 E.; then west to the southeast corner of sec. 9, T. 1 S., R. 2 E.; then south to the point of beginning.

(4) Beginning at the southeast corner of sec. 34, T. 2 N., R. 5 E.; then west to the southwest corner of sec. 31, T. 2 N., R. 5 E.; then north to the northwest corner of sec. 7, T. 2 N., R. 5 E.; then east to the northeast corner of sec. 10, T. 2 N., R. 5 E.; then south to the point of beginning.

(5) Beginning at the intersection of the Maricopa/Pinal County line and the southwest corner of sec. 31, T. 2 S., R. 5 E.; then north to the northwest corner of sec. 31, T. 2 S., R. 5 E.; then west to the southwest corner of sec. 25, T. 2 S., R. 4 E.; then north to the southwest corner of sec. 13, T. 2 S., R. 4 E.; then west to the southwest corner of sec. 15, T. 2 S., R. 4 E; then north to the northwest corner of sec. 3, T. 2 S., R. 4 E.; then east to the southwest corner of sec. 35, T. 1 S., R. 4 E.; then north to the northwest corner of sec. 35, T. 1 S., R. 4 E.; then east to the northwest corner of sec. 34, T. 1 S., R. 5 E.; then north to the northwest corner of sec. 22, T. 1 S., R. 5 E.; then east to the northwest corner of sec. 20, T. 1 S., R. 6 E.; then north to the northwest corner of sec. 8, T. 1 S., R. 6 E.; then east to the northeast corner of sec. 7, T. 1 S., R. 7 E.; then south to the southeast corner of sec. 31, T. 1 S., R. 7 E.; then east to the northeast corner of sec. 5, T. 2 S., R. 7 E.; then south to the southeast corner of sec. 5, T. 2 S., R. 7 E.; then east to the Maricopa/Pinal County line; then south and west along the Maricopa/Pinal County line to the point of beginning.

(6) The following individual fields in Maricopa County are regulated areas:

301060505

301060506

301060601

301060602

301060603

301060604

301102505

301102506

303111502

303111503

304031904

304031906

304073004

304073005

304073010

304081410

304081413

304081415

304081417

304081505

304081506

304082202

304082302

304082303

304082607

304082703

306013222

306013231

306020404

306020501

306020601

306020623

316123301

316123302

316123303

316131901

316131904

316132302

316132604

Pinal County. (1) Beginning at the intersection of the Maricopa/Pinal County line and the northwest corner of sec. 7, T. 2 S., R. 8 E.; then east to the northeast corner of sec. 8, T. 2 S., R. 8 E.; then south to the southeast corner of sec. 8, T. 2 S., R. 8 E.; then east to the northeast corner of sec. 16, T. 2 S., R. 8 E., then south to the southeast corner of sec. 28, T. 2 S., R. 8 E.; then west to the southeast corner of sec. 29, T. 2 S., R. 8 E.; then south to the southeast corner of sec. 32, T. 2 S., R. 8 E.; then west to the Maricopa/Pinal County line; then north along the Maricopa/Pinal County line to the point of beginning.

(2) Beginning at the point of intersection of the Maricopa/Pinal County line and the northeast corner of sec. 5, T. 3 S., R. 6 E.; then south to the southeast corner of sec. 32, T. 3 S., R. 6 E.; then west to the southwest corner of sec. 34, T. 3 S., R. 5 E.; then north to the southwest corner of sec. 3, T. 3 S., R. 5 E.; then west to the southwest corner of sec. 6, T. 3 S., R. 5 E.; then north to the Maricopa/Pinal County line; then east along the Maricopa/Pinal County line to the point of beginning.

(3) Beginning at the southeast corner of sec. 5, T. 6 S., R. 4 E.; then west to the southwest corner of sec. 5, T. 6 S., R. 3 E.; then north to the southwest corner of sec. 28, T. 5 S., R. 3 E.; then west to the southwest corner of sec. 25, T. 5 S., R. 2 E.; then north to the southwest corner of sec. 24, T. 5 S., R. 2 E.; then west to the southwest corner of sec. 23, T. 5 S., R. 2 E.; then north to the northwest corner of sec. 35, T. 4 S., R. 2 E.; then east to the northwest corner of sec. 36, T. 4 S., R. 2 E.; then north to the northwest corner of sec. 25, T. 4 S., R. 2 E.; then east to the northwest corner of sec. 29, T. 4 S., R. 3 E.; then north to the northwest corner of sec. 20, T. 4 S., R. 3 E.; then east to the northeast corner of sec. 21, T. 4 S., R. 4 E.; then south to the northeast corner of sec. 4, T. 5 S., R. 4 E.; then east to the northeast corner of sec. 3, T. 5 S., R. 4 E., then south to the southeast corner of sec. 22, T. 5 S., R. 4 E.; then west to the southeast corner of sec. 21, T. 5 S., R. 4 E.; then south to the point of beginning.

(4) The following individual fields in Pinal County are regulated areas:

307012207

308102604

308102605

309021801

309021804

309021812

309031304

309033507

309042544

309042545

309042601

309042607

309042619

309042620

309042621

309050104

309050109

309050122

309050207

309050209

Yuma County. The following individual fields in Yuma County are regulated areas:

321011103

321033501

321033502

321033503

321033516

321033517

321033518

321033519

321040405

321040911

321040912

321040915

321040917

321040918

321040921

321040922

321041908

321041919

323030401

323030402

323030403

323030404

323030405

323030406

323030501

323030502

323030512

323030513

323030514

323030515

323030521

California

Imperial County. Beginning at the intersection of the Riverside/Imperial County line and the California/Arizona State line; then west to the northwest corner of sec. 1, T. 9 S., R. 21 E.; then south to the California/Arizona State line; then east and north along the State line to the point of beginning.

Riverside County. Beginning at the intersection of the Riverside/Imperial County line and the California/Arizona State line; then west to the southwest corner of sec. 31, T. 8 S., R. 22 E.; then north to the northwest corner of sec. 30, T. 7 S., R. 22 E.; then north and northeast along the Palo Verde Valley agriculture area to the California/Arizona State line; then south along the State line to the point of beginning.

New Mexico

Dona Ana County. The following individual fields in Dona Ana County are regulated areas:

113040501

113040502

113040506

113040507

113040508

113040602

113040702

113040902

113042601

113042707

113042708

113043401

113043407

113050201

113050202

113050301

113060702

113060703

113060801

113060809

113060901

113060902

113070702

113072701

113072702

113072703

113072704

113072705

113072706

113173103

113210401

113210402

113210403

113210406

113210407

113210808

113212103

113212802

113212806

113241601

113242708

Hildalgo County. The following individual fields in Hidalgo County are regulated areas:

123272403

123353001

Luna County. The following individual fields in Luna County are regulated areas:

129011301

129012201

129013003

129013006

129060901

129060902

129062001

129062802

129232801

129232805

129232806

129300506

129301104

129301701

129301801

129302702

129303302

129440601

129440602

129440701

129440708

129441701

Sierra County. The following individual fields in Sierra County are regulated areas:

151013401

151441201

151441202

151441306

151442201

151442601

151442602

151442603

151442604

151442605

151442606

151442607

151442608

151442609

151442610

151442611

151442612

151442613

151442614

151442701

151443501

151443502

151443503

151443601

151443602

151443603

151443604

151453001

151453101

151453102

151453103

151453104

151453106

Texas

El Paso County. The following individual fields in El Paso County are regulated areas:

441141301

441142301

441142302

441142303

441142304

441142305

441142306

441142307

441142401

441142402

441142403

441142404

441241301

441241302

441252801

441252803

441252804

441252901

441253201

441253302

441253401

Hudspeth County. The following individual fields in Hudspeth County are regulated areas:

429050701

429050702

429070101

429070102

McCulloch County. Beginning at the McCulloch/San Saba County line and the line of latitude 31.232299 N.; then west along the line of latitude 31.232299 N. to the line of longitude −99.13473 W.; then north along the line of longitude −99.13473 W. to the line of latitude 31.31004 N.; then east along the line of latitude 31.31004 N. to the line of longitude −99.11427 W.; then north along the line of longitude −99.11427 W. to the line of latitude 31.283487 N.; then east along the line of latitude 31.283487 N. to the McCulloch/San Saba County line; then south to the point of beginning.

San Saba County. (1) Beginning at the San Saba/Mills County line and the line of longitude −98.5851 W.; then south along the line of longitude −98.5851 W. to the line of latitude 31.167959 N.; then west along the line of latitude 31.167959 N. to the line of longitude −98.903233 W.; then north along the line of longitude −98.903233 W. to the line of latitude 31.310819 N.; then east along the line of latitude 31.310819 N. to the San Saba/Mills County line; then south along the San Saba/Mills County line to the point of beginning.

(2) Beginning at the San Saba/McCulloch County line and the line of latitude 31.283487 N.; then east along the line of latitude 31.283487 N. to the line of longitude −99.063487 W.; then south along the line of longitude −99.063487 W. to the line of latitude 31.232299 N.; then west along the line of latitude 31.232299 N. to the San Saba/McCulloch County line; then north along the San Saba/McCulloch County line to the point of beginning.

Done in Washington, DC, this 16th day of April 2001.
Bobby R. Acord,
Acting Administrator, Animal and Plant Health Inspection Service.

[FR Doc. 01-9794 Filed 4-19-01; 8:45 am]

BILLING CODE 3410-34-U